FEDERAL ACCOUNTING STANDARDS ADVISORY BOARD

Issuance of Statement of Federal Financial Accounting Concepts (SFFAC) No. 4

AGENCY: Federal Accounting Standards Advisory Board.

ACTION: Notice of issuance of statement of Federal Financial Accounting Concepts (SFFAC) No. 4.

Board Action: Pursuant to the Federal Advisory Committee Act (Pub. L. 92-463), as amended, and the FASAB Rules Of Procedure, as amended in October, 1999, notice is hereby given that the Federal Accounting Standards Advisory Board (FASAB) has issued Statement of Federal Financial Accounting Concepts (SFFAC) No. 4, Intended Audience and Qualitative Characteristics for the Consolidated Financial Report of the United States Government.

The Board approved the Concept in October 2002, and submitted it to FASAB principals for a 90-day review. The review period closed on January 27, 2003.

SFFAC No. 4 identifies the primary audience of the Consolidated Financial Report of the U.S. Government (CFR) as external users represented by citizens and their intermediaries. Further, it describes the characteristics of the audience and the qualitative characteristics FASAB believes will aid in meeting the financial reporting objectives of the CFR. Finally, the concepts document provides that the CFR should be a “general purpose” report that should be highly understandable and timely.

The concepts prescribed in SFFAC No. 4 are effective for periods beginning after September 30, 2002. Hard copies of the concept will be mailed to the FASAB mailing list. It is also available on the FASAB web site at http://www.fasab.gov or by calling 202-512-7350.

FOR FURTHER INFORMATION CONTACT: Wendy Comes, Executive Director, 441 G St., NW., Mail Stop 6K17V, Washington, DC 20548, or call (202) 512-7350.

Authority: Federal Advisory Committee Act. Pub. L. 92-463.

Dated: February 10, 2003.
Wendy M. Comes,
Executive Director.

[FR Doc. 03-3767 Filed 2-14-03; 8:45 am]

BILLING CODE 1610-01-M